DEPARTMENT OF TRANSPORTATION

Federal Aviation Administration

14 CFR Part 73

[Docket No. 2002-FAA-14912; Airspace Docket No. 03-AWP-4]

RIN 2120-AA66

Amendment of Restricted Area R-2301E Ajo East, AZ; and R-2304, and 2305 Gila Bend, AZ

AGENCY: Federal Aviation Administration (FAA), DOT.

ACTION: Final rule.

SUMMARY: This action amends the designated time of use for Restricted Area 2301E Ajo East, AZ (R-2301E); and R-2304 and R-2305, Gila Bend, AZ. Increased training requirements at Luke Air Force Base (AFB) have resulted in a continued need for restricted airspace usage up to 2400 hours in these areas. This modification of the designated time of use does not change the current boundaries or activities conducted in the airspace areas.

DATES: 0901 UTC, February 19, 2004.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

History

On May 30, 2003, the FAA published in the Federal Register a notice proposing to amend R-2301, R-2304 and R-2305 (68 FR 14912). Interested parties were invited to participate in this rulemaking effort by submitting written comments on the proposal. No comments were received regarding this rulemaking. Except for editorial changes, this amendment is the same as that proposed in the notice. These rulemaking actions “are necessary in the interest of national defense,” as required under 49 U.S.C. 40103(b)(3)(A).

The Rule

The FAA is amending Title 14 Code of Federal Regulations (14 CFR) part 73 (part 73) to amend the designated time of use for R-2301, R-2304, and R-2305. Specifically, this action changes the designated time of use for R-2301E from “Monday-Friday, 0630-2230 local time; other times by NOTAM,” to “Daily, 0630 to 2400 local time; other times by NOTAM;” R-2304 from “0700-2200 local time; other times by NOTAM,” to “Monday-Saturday, 0630-2400 local time; other times by NOTAM;” and R-2305 from “0700-2300 local time; other times by NOTAM,” to “Monday-Saturday, 0630-2400 local time; other times by NOTAM.” Increased training requirements at Luke AFB have resulted in a continued need for restricted airspace availability until 2400 hours. This modification does not change the current boundaries or activities conducted in the airspace areas.

Section 73.23 of part 73 of the Federal Aviation Regulations was republished in FAA Order 7400.8L dated October 7, 2003.

The FAA has determined that this regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

Adoption of Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. § 73.23 is amended as follows:

* * * * *

R-2301E, Ajo East, AZ (Amended)

By removing “Time of designation. Monday-Friday, 0630-2230 local time; other times by NOTAM,” and substituting “Time of designation. Daily, 0630-2400 local time; other times by NOTAM.”

* * * * *

R-2304, Gila Bend, AZ (Amended)

By removing “Time of designation. 0700-2200 local time; other times by NOTAM,” and substituting “Time of designation. Monday-Saturday, 0630-2400 local time; other times by NOTAM.”

R-2305, Gila Bend, AZ (Amended)

By removing “Time of designation. 0700-2300 local time; other times by NOTAM,” and substituting “Time of designation. Monday-Saturday, 0630-2400 local time; other times by NOTAM.”

* * * * *

Issued in Washington, DC, on November 4, 2003.
Paul Gallant,
Acting Manager, Airspace and Rules Division.

[FR Doc. 03-28529 Filed 11-13-03; 8:45 am]

BILLING CODE 4910-13-P